ENVIRONMENTAL PROTECTION AGENCY

[ER-FRL-8999-8]

Environmental Impacts Statements; Notice of Availability

Responsible Agency: Office of Federal Activities, General Information (202) 564-1399 or http://www.epa.gov/compliance/nepa/.

Weekly receipt of Environmental Impact Statements

Filed 10/24/2011 through 10/28/2011 pursuant to 40 CFR 1506.9.

Notice

Section 309(a) of the Clean Air Act requires that EPA make public its comments on EISs issued by other Federal agencies. EPA's comment letters on EIS are available at: http://www.epa.gov/compliance/nepa/eisdata.html.

EIS No. 20110367, Final EIS, FERC, WA,Wells Hydroelectric Project, Application to Relicense, Public Utility District No. 1 Columbia River near Pateros and Brewster in Douglas, Okanogan, and Chelan Counties, WA, Review Period Ends: 12/05/2011, Contact: Leonard Tao 1 (866) 208-3372.

EIS No. 20110368, Draft EIS, FHWA, CO,I-25 Improvements Through the New Pueblo Freeway Project, To Improve Safety by Addressing Deteriorating Roadways and Bridges and Unsafe Road Characteristics, Pueblo County, CO, Comment Period Ends: 12/19/2011, Contact: Chris Horn (720) 963-3017

EIS No. 20110369, Draft EIS, USACE, 00,City of Denton Land Conveyance, Lake Texoma, To Develop Recreational and Economic Needs, Grayson and Cooke Counties, TX and Portion of Bryan, Marshall, Johnston and Love Counties, OK, Comment Period Ends: 12/21/2011, Contact: Stephen L. Nolen (918) 669-7660.

EIS No. 20110370, Final EIS, NOAA, 00,2011 Caribbean Comprehensive Annual Catch Limit (ACL) Amendment for the US Caribbean: Amendment 6 to the Reef Fish Fishery Management Plan of Puerto Rico and the U.S. Virgin Islands; Amendment 5 to the Fishery Management Spiny Lobster Fishery of Puerto Rico and the U.S. Virgin Islands; Amendment 3 to the Fishery Management Plan for the Queen Conch Resources of Puerto Rico and the U.S. Virgin Islands; Amendment 3 to the Fishery Management Plan for Corals and Reef Associated Plants and Invertebrates of Puerto Rico and the U.S. Virgin Islands, Review Period Ends: 12/05/2011, Contact: Roy E. Crabtree, Ph.D. (727) 824-5305.

EIS No. 20110371, Draft EIS, BLM, UT,Alton Coal Tract Lease by Application Project, The Exploration and Development of Mineral Resource, Kane County, UT, Comment Period Ends: 01/06/2012, Contact: Keith Rigtrup (435) 865-3063.

EIS No. 20110372, Draft EIS, FTA, CA,Van Ness Avenue Bus Rapid Transit Project, To Implement Bus Rapid Transit (BRT) Improvement Along a 2-Mile Stretch of Van Ness Avenue, City of County of San Francisco, CA, Comment Period Ends: 12/19/2011, Contact: Alexander Smith (415) 744-2599.

EIS No. 20110373, Final EIS, NPS, 00,Yellowstone National Park Draft Winter Use Plan, To Establish a Management Framework, Implementation, WY, MT and ID, Review Period Ends: 12/05/2011, Contact: David Jacob (303) 987-6970.

EIS No. 20110374, Final EIS, FHWA, CA,6th Street Viaduct Seismic Improvement Project, Retrofitting or Demolition and Replacement of the Existing Viaduct over the Los Angeles River between Mateo and Mill Streets, Los Angeles County, CA, Review Period Ends: 12/05/2011, Contact: Carlos Montez (213) 897-9116.

Amended Notices

EIS No. 20110275, Second Draft Supplement, USFWS, CA,Southern Sea Otters (Enhydra lutris nereis) Translocation Program, Updated Information to the DSEIS 2005, San Nicolas Island, Southern California Bight, CA, Comment Period Ends: 11/18/2011, Contact: Lillian Carswell (805) 644-1766.

This document is available on the Internet at: http://www.fws.gov/ventura/species_information/so_sea_otter/index.html.

Revision of FR Notice Published 08/26/2011: Reopening Comment Period from 10/24/2011 to 11/18/2011.

EIS No. 20110345, Draft EIS, APHIS, 00,Glyphosate -Tolerant H7-1 Sugar Beets, Request for Nonregulated Status, United States, Comment Period Ends: 12/13/2011, Contact: Rebecca Stankiewicz Gabel, Ph.D. (301) 734-5603. Revision of FR Notice Published 08/26/2011: Revision to FR Notice Published 10/14/2011: Extending the Comment Period from 11/28/2011 to 12/13/2011.

Dated: November 1, 2011.
Cliff Rader,
Acting Director, NEPA Compliance Division, Office of Federal Activities.

[FR Doc. 2011-28634 Filed 11-3-11; 8:45 am]

BILLING CODE 6560-50-P